DEPARTMENT OF COMMERCE

National Oceanic and Atmospheric Administration

50 CFR Part 648

[RTID 0648-XF387]

Fisheries of the Northeastern United States; Amendment 21 to the Atlantic Surfclam and Ocean Quahog Fishery Management Plan

AGENCY: National Marine Fisheries Service (NMFS), National Oceanic and Atmospheric Administration (NOAA), Commerce.

ACTION: Notice of availability of proposed fishery management plan amendment; request for comments.

SUMMARY: NMFS announces that the Mid-Atlantic Fishery Management Council has submitted Amendment 21 to the Atlantic Surfclam and Ocean Quahog Fishery Management Plan for review and approval by the Secretary of Commerce. We are requesting comments from the public on the amendment. Amendment 21, also known as the Species Separation Requirements Amendment, would allow both surfclams and ocean quahogs to be landed on the same fishing trip. To ensure accurate accounting for the catch, the amendment would also implement additional monitoring and reporting requirements, both at sea and at the dealer where the mixed catch would be sorted.

DATES: Comments must be received on or before February 27, 2026.

ADDRESSES: You may submit comments on this document, identified by NOAA-NMFS-2025-1197, by any of the following methods:

• Electronic Submission: Submit all electronic public comments via the Federal e-Rulemaking Portal. Go to https://www.regulations.gov and enter NOAA-NMFS-2025-1197 in the Search box. Click the “Comment” icon, complete the required fields, and enter or attach your comments.

• Mail: Submit written comments to Michael Pentony, Regional Administrator, NMFS, Greater Atlantic Regional Fisheries Office, 55 Great Republic Drive, Gloucester, MA 01930. Mark the outside of the envelope: “Comments on Surfclam/Ocean Quahog Amendment 21.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Copies of Amendment 21, including the draft Environmental Assessment (EA), are available on request from the Mid-Atlantic Fishery Management Council, 800 North State Street, Suite 201, Dover, DE 19901. These documents are also accessible via the internet at https://www.mafmc.org.

FOR FURTHER INFORMATION CONTACT: Douglas Potts, Fishery Policy Analyst, 978-281-9341.

SUPPLEMENTARY INFORMATION: We are soliciting public comments on Amendment 21, also known as the Species Separation Requirements Amendment, and its incorporated documents through the end of the comment period stated in this notice of availability. All comments received by February 27, 2026, will be considered in the approval/disapproval decision on the amendment. To be considered, comments must be received by close of business on the last day of the comment period. Comments received after that date will not be considered in the decision to approve or disapprove Amendment 21, including those postmarked or otherwise transmitted by the last day of the comment period. If the amendment is approved, a proposed rule would be published in the Federal Register at a later date with an opportunity for public comment on the specific regulatory changes being proposed.

The Mid-Atlantic Fishery Management Council developed this amendment at the request of members of the commercial surfclam fishing industry who were increasingly encountering a mix of surfclams and ocean quahogs on the same fishing trip. When the Council adopted an Individual Transferable Quota (ITQ) management system for the surfclam and ocean quahog fisheries in 1990, regulations were adopted that prohibited landing both species on the same trip. This provision simplified enforcement of the new ITQ system and had minimal impact on the fishery as the two species were geographically separated. Surfclams were predominantly found in shallower water and ocean quahogs occupied deeper waters farther offshore. As ocean bottom temperatures have risen, the surfclam population has progressively shifted offshore and into deeper water. Juvenile surfclams have increasingly settled on, and grown to maturity on top of, existing beds of the much longer-lived ocean quahogs. Because of the high volume and industrial nature of this fishery, it is impractical to thoroughly sort the catch on board the vessel. As a result, the industry asserts that it has been effectively unable to fish in a sizable and growing area.

The measures approved by the Council in Amendment 21 would allow vessels to land both surfclams and ocean quahogs on the same fishing trip. The landed catch would be sorted after it arrives at the dealer's processing facility. To ensure accurate accounting for catch, including landings and discards of both species under the ITQ system, Amendment 21 calls for the creation of a new monitoring program within dealer processing facilities. It also calls for additional at-sea observer coverage up to an initial target coverage of 5 percent of all clam dredge fishing trips. The additional monitoring would be funded by the industry through cost recovery. The Magnuson-Stevens Fishery Conservation and Management Act authorizes the government to collect a fee to recover the actual costs directly related to management, data collection, and enforcement of any limited access privilege program, such as the surfclam and ocean quahog ITQ program. This fee cannot exceed three percent of the ex-vessel value of the fish harvested under the program.

Additional details of the proposed measures are available in the amendment document. Specific regulatory changes to implement this amendment, if approved, would be detailed in a future proposed rule that would include an additional opportunity for public comment.

Authority: 16 U.S.C. 1801 et seq.

Dated: December 22, 2025.
Michael P. Ruccio,
Acting Director, Office of Sustainable Fisheries, National Marine Fisheries Service.

[FR Doc. 2025-23875 Filed 12-23-25; 8:45 am]

BILLING CODE 3510-22-P